DEPARTMENT OF THE INTERIOR

Bureau of Land Management

[LLCON04000 L16100000.DP000]

Notice of Intent To Prepare an Environmental Impact Statement for the Previously Issued Oil and Gas Leases in the White River National Forest; Silt, Colorado

AGENCY: Bureau of Land Management, Interior.

ACTION: Notice of intent.

SUMMARY: In compliance with the National Environmental Policy Act of 1969, as amended (NEPA), the Bureau of Land Management (BLM) Colorado River Valley Field Office (CRVFO), Silt, Colorado, intends to prepare an Environmental Impact Statement (EIS) to undertake NEPA analysis addressing previous decisions to issue 65 leases underlying White River National Forest (WRNF) lands. In 2007, the Interior Board of Land Appeals (IBLA) ruled that before including WRNF parcels in an oil and gas lease sale, the BLM must either formally adopt NEPA analysis completed by the WRNF or conduct a NEPA analysis of its own (see Board of Commissioners of Pitkin County, 173 IBLA 173 (2007)). Because the BLM has determined that the WRNF NEPA analysis conducted is no longer adequate, the BLM will conduct its own NEPA analysis through this EIS regarding these previous decisions to lease WRNF lands for oil and gas development. The BLM will determine whether these 65 leases should be voided, reaffirmed, modified with additional or different terms, or subject to additional mitigation measures for site-specific development proposals. By this notice, the CRVFO is announcing the beginning of the scoping process to solicit public comments and identify issues.

DATES: This notice initiates the public scoping process for the EIS. Comments on issues may be submitted in writing until May 2, 2014. The date(s) and location(s) of any scoping meetings will be announced at least 15 days in advance through local media, newspapers and the BLM Web site at: http://www.blm.gov/co/st/en/fo/crvfo.html. All comments must be received prior to the close of the 30-day scoping period or 15 days after the last public meeting (whichever is later) to be included in the Draft EIS. The BLM will provide additional opportunities for public participation upon publication of the Draft EIS.

ADDRESSES: You may submit comments related to the Previously Issued Oil and Gas Leases in the White River National Forest EIS by any of the following methods:

• Web site: http://www.blm.gov/co/st/en/fo/crvfo.html.

• Email: WRNFleases@blm.gov.

• Fax: 970-876-9090.

• Mail: Bureau of Land Management, Colorado River Valley Field Office, 2300 River Frontage Road, Silt, CO 81652.

Documents pertinent to this proposal may be examined at the CRVFO at the above address.

FOR FURTHER INFORMATION CONTACT: Steve Bennett, Colorado River Valley Field Manager, at the address above, by telephone at 970-876-9000, or by email at WRNFleases@blm.gov. You may also use the above contact information to have your name added to the mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM intends to develop an EIS to address the NEPA defect identified by the IBLA related to the issuance of the oil and gas leases underlying WRNF lands.

The most recent decision making these lands available for oil and gas leasing was made through the 1993 WRNF Oil and Gas Leasing EIS, a decision that was reaffirmed in the 2002 White River National Forest Plan. Before offering the nominated parcels in an oil and gas lease sale, the BLM obtained concurrence from the U.S. Forest Service and subsequently issued the leases. However, the BLM did not conduct any additional NEPA analysis or formally adopt the U.S. Forest Service NEPA. The 2007 ruling from the IBLA (see Board of Commissioners of Pitkin County, 173 IBLA 173 (2007)), determined that the BLM must either do its own NEPA analysis or formally adopt the U.S. Forest Service NEPA analysis before offering the U.S. Forest Service parcels for lease. The BLM has determined that analysis in the 1993 WRNF Oil and Gas Leasing EIS is no longer adequate to support the BLM's leasing decisions. As a result, the BLM has determined that it needs to conduct additional NEPA analysis on these decisions. The BLM has considered the potential context and intensity of the proposed action's impacts and determined an EIS is needed to analyze the impacts of its leasing decisions within the WRNF. The BLM will use an interdisciplinary approach to develop a proposed EIS that will consider the variety of resource issues and concerns identified. The purpose of the public scoping process is to determine relevant issues that will influence the scope of the environmental analysis, including alternatives, and guide the process for developing the EIS.

The BLM identified 65 existing leases with effective dates ranging from 1995 to 2012 that were leased under the 1993 EIS. The BLM's EIS will include additional analysis concerning the decisions about these leases and will address the deficiency noted by the IBLA. The decision of whether forest system lands are available or unavailable for oil and gas leasing remains with the U.S. Forest Service, although the BLM retains the ultimate discretion whether to issue a lease (43 CFR 3101.7-2). In light of this, the BLM will only consider the 65 currently leased parcels and not future leasing availability. Under a separate effort unrelated to the IBLA case, the WRNF is updating its 1993 Oil and Gas Leasing EIS to address future oil and gas leasing availability on the WRNF. The Draft of updated Oil and Gas Leasing EIS was released by the Forest Service for public comment from August 2012 until November 2012.

The BLM will incorporate as much of the U.S. Forest Service's new NEPA analysis of future oil and gas leasing on the WRNF as possible into its analysis of existing leases. In addition, the BLM's EIS would not be directly tied to any pending or proposed Applications for Permit to Drill because of the U.S. Forest Service's authority to address on the surface use Plan of Operations and related analysis.

The BLM has identified new information that has become available since the 1993 WRNF Oil and Gas leasing Final EIS decision that will need to be addressed in the BLM's EIS. The BLM has identified the following preliminary issues:

(1) The level of oil and gas leasing, drilling and production activity within the WRNF has increased dramatically since the 1993 Oil and Gas leasing Final EIS decision. The number of acres leased has nearly tripled since 1993. The increased level of oil and gas leasing, drilling and production activity indicates a need to update the Reasonable Foreseeable Development scenario for oil and gas activities on the WRNF lands.

(2) Oil and gas exploration and production technology have improved since 1993. The BLM will consider and analyze these advancements in the impact analysis.

(3) An increased level of oil and gas activity has created an increased level of public interest in oil and gas related activities on public lands.

(4) Since 1993, the BLM has new information related to air resources management, including air quality modeling.

(5) The BLM will address lands in WRNF inventoried as Roadless areas in the updated EIS.

(6) The EIS will address changes since 1993 to BLM sensitive species and to species listed as threatened or endangered under the Endangered Species Act of 1973.

Input received under public processes provided under NEPA will assist in satisfying the public involvement requirements under Section 106 of the National Historic Preservation Act (NHPA)(16 USC 470f) pursuant to 36 CFR 800.2(d)(3). The information about historic and cultural resources within the area potentially affected by the proposed EIS will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State and local agencies, along with tribes that may be interested in or affected by the proposed decisions the BLM is evaluating in this EIS, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

Ruth Welch,
BLM Colorado Acting State Director.

[FR Doc. 2014-07478 Filed 4-1-14; 8:45 am]

BILLING CODE 4310-JB-P